DEPARTMENT OF COMMERCE

National Oceanic and Atmospheric Administration

RIN 0648-XI65

Endangered and Threatened Species; Take of Anadromous Fish

AGENCY: National Marine Fisheries Service (NMFS), National Oceanic and Atmospheric Administration (NOAA), Commerce.

ACTION: Receipt of application for research permit (1414) and request for comment.

SUMMARY: Notice is hereby given that NMFS has received an application for scientific research from East Bay Municipal Utility District (EBMUD) in Lodi, CA. The permit would affect the federally threatened Central Valley steelhead Distinct Population Segment (DPS), as identified in the SUPPLEMENTARY INFORMATION section. This document serves to notify the public of the availability of the permit application for review and comment.

DATES: Written comments on the permit application must be received no later than 5 p.m. Pacific Standard Time on July 18, 2008.

ADDRESSES: Written comments on the permit application should be sent to the appropriate office. Comments may also be sent via fax to the number indicated for the request. Comments will not be accepted if submitted via e-mail or the Internet. The applications and related documents are available for review by appointment, for permit 1414: Protected Resources Division, NMFS, 650 Capitol Mall, Suite 8-300, Sacramento, CA 95814 (ph: 916-930-3600, fax: 916-930-3629). Documents may also be reviewed by appointment in the Office of Protected Resources, F/PR3, NMFS, 1315 East-West Highway, Silver Spring, MD 20910-3226 (301-713-1401).

FOR FURTHER INFORMATION CONTACT: Shirley Witalis at phone number 916-930-3606, or e-mail: Shirley.Witalis@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally threatened Central Valley steelhead (Oncorhynchus mykiss).

Application Received

EBMUD requests a five-year permit (1414) to conduct monitoring and research of anadromous (Central Valley steelhead) and resident fishes in the Lower Mokelumne River. The goals of the project include measuring the success of the Lower Mokelumne River Restoration Program and determining if the modifications of the Lower Mokelumne River Project are appropriate for conserving fish and wildlife resources in the Lower Mokelumne River. Data will also be collected for developing a Hatchery and Genetics Management Plan for the Mokelumne River Fish Hatchery steelhead artificial propagation program. EBMUD's monitoring and research will consists of trapping, sampling, measuring, weighing and tagging fish, fish carcass surveying, and collecting O. mykiss tissue samples.

Dated: June 23, 2008.
Angela Somma,
Chief, Endangered Species Division, Office of Protected Resources, National Marine Fisheries Service.

[FR Doc. E8-14648 Filed 6-26-08; 8:45 am]

BILLING CODE 3510-22-S